Executive Order 14239 of March 18, 2025

Achieving Efficiency Through State and Local Preparedness

By the authority vested in me as President by the Constitution and the laws of the United States of America, it is hereby ordered:

Section 1. Purpose. Commonsense approaches and investments by State and local governments across American infrastructure will enhance national security and create a more resilient Nation. Federal policy must rightly recognize that preparedness is most effectively owned and managed at the State, local, and even individual levels, supported by a competent, accessible, and efficient Federal Government. Citizens are the immediate beneficiaries of sound local decisions and investments designed to address risks, including cyber attacks, wildfires, hurricanes, and space weather. When States are empowered to make smart infrastructure choices, taxpayers benefit.

This order empowers State, local, and individual preparedness and injects common sense into infrastructure prioritization and strategic investments through risk-informed decisions that make our infrastructure, communities, and economy resilient to global and dynamic threats and hazards.

Sec. 2. Policy. It is the policy of the United States that State and local governments and individuals play a more active and significant role in national resilience and preparedness, thereby saving American lives, securing American livelihoods, reducing taxpayer burdens through efficiency, and unleashing our collective prosperity. In addition, it is the policy of the United States that my Administration streamline its preparedness operations; update relevant Government policies to reduce complexity and better protect and serve Americans; and enable State and local governments to better understand, plan for, and ultimately address the needs of their citizens.

Sec. 3. Updating Federal Policy to Save Lives and End the Subsidization of Mismanagement. (a) National Resilience Strategy. Within 90 days of the date of this order, the Assistant to the President for National Security Affairs (APNSA), in coordination with the Assistant to the President for Economic Policy and the heads of relevant executive departments and agencies (agencies), shall publish a National Resilience Strategy that articulates the priorities, means, and ways to advance the resilience of the Nation. The National Resilience Strategy shall be reviewed and revised at least every 4 years, or as appropriate.

(b) National Critical Infrastructure Policy. Within 180 days of the date of this order, the APNSA, in coordination with the Director of the Office of Science and Technology Policy and the heads of relevant agencies, shall review all critical infrastructure policies and recommend to the President the revisions, recissions, and replacements necessary to achieve a more resilient posture; shift from an all-hazards approach to a risk-informed approach; move beyond information sharing to action; and implement the National Resilience Strategy described in subsection (a) of this section. For purposes of this order, critical infrastructure policies do not include any policies related to purported “misinformation,” “disinformation,” or “malinformation,” nor so-called “cognitive infrastructure,” which should be reevaluated consistent with the policy set forth in Executive Order 14149 of January 20, 2025 (Restoring Freedom of Speech and Ending Federal Censorship), through a separate process. The policies to be reviewed and recommended for modification, as appropriate, include:

(i) National Security Memorandum 16 of November 10, 2022 (Strengthening the Security and Resilience of United States Food and Agriculture);

(ii) National Security Memorandum 22 of April 30, 2024 (Critical Infrastructure Security and Resilience);

(iii) Executive Order 14017 of February 24, 2021 (America's Supply Chains); and

(iv) Executive Order 14123 of June 14, 2024 (White House Council on Supply Chain Resilience).

(c) National Continuity Policy. Within 180 days of the date of this order, the APNSA, in coordination with the heads of relevant agencies, shall review all national continuity policies and recommend to the President the revisions, recissions, and replacements necessary to modernize and streamline the approach to national continuity capabilities, reformulate the methodology and architecture necessary to achieve an enduring readiness posture, and implement the National Resilience Strategy described in subsection (a) of this section. The policies to be reviewed and recommended for modification, as appropriate, include:

(i) Executive Order 13618 of July 6, 2012 (Assignment of National Security and Emergency Preparedness Communications Functions);

(ii) Executive Order 13961 of December 7, 2020 (Governance and Integration of Federal Mission Resilience);

(iii) National Security Memorandum 32 of January 19, 2025 (National Continuity Policy); and

(iv) Executive Order 14146 of January 19, 2025 (Partial Revocation of Executive Order 13961).

(d) Preparedness and Response Policies. Within 240 days of the date of this order, the APNSA, in coordination with the heads of relevant agencies and informed by the reports and findings of the Federal Emergency Management Agency Council established pursuant to Executive Order 14180 of January 24, 2025 (Council to Assess the Federal Emergency Management Agency), shall review all national preparedness and response policies and recommend to the President the revisions, recissions, and replacements necessary to reformulate the process and metrics for Federal responsibility, move away from an all-hazards approach, and implement the National Resilience Strategy described in subsection (a) of this section. The policies to be reviewed and recommended for modification, as appropriate, include:

(i) Executive Order 12656 of November 18, 1988 (Assignment of Emergency Preparedness Responsibilities);

(ii) Homeland Security Presidential Directive 5 of February 28, 2003 (Management of Domestic Incidents);

(iii) Presidential Policy Directive 8 of March 30, 2011 (National Preparedness);

(iv) Presidential Policy Directive 22 of March 28, 2013 (National Special Security Events); and

(v) Presidential Policy Directive 44 of November 7, 2016 (Enhancing Domestic Incident Response).

(e) National Risk Register. Within 240 days of the date of this order, the APNSA, in coordination with the Director of the Office of Management and Budget and the heads of relevant agencies, shall coordinate the development of a National Risk Register that identifies, articulates, and quantifies natural and malign risks to our national infrastructure, related systems, and their users.

(i) The quantification produced by the National Risk Register shall be used to inform the Intelligence Community, private sector investments, State investments, and Federal budget priorities.

(ii) The National Risk Register shall be reviewed and revised at least every 4 years, or as appropriate, to evolve with the dynamic risk landscape.

(f) Federal National Functions Constructs. The Federal Government organizes national preparedness and continuity through the bureaucratic and complicated lens of overlapping and overbroad “functions,” which include: the National Essential Functions, Primary Mission Essential Functions, National Critical Functions, Emergency Support Functions, Recovery Support Functions, and Community Lifelines. Within 1 year of the date of this order, the Secretary of Homeland Security shall propose changes to the policies outlining this framework and any implementing documents to ensure State and local governments and individuals have improved communications with Federal officials and a better understanding of the Federal role. This proposal shall be coordinated through the process established by National Security Presidential Memorandum 1 of January 20, 2025 (Organization of the National Security Council and Subcommittees), or any successor processes, before being submitted to the President through the APNSA.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 18, 2025.

[FR Doc. 2025-04973

Filed 3-20-25; 8:45 am]

Billing code 3395-F4-P